SOCIAL SECURITY ADMINISTRATION

20 CFR Part 404

[Docket No. SSA-2009-0038]

RIN 096-AH03

Revised Medical Criteria for Evaluating Genitourinary Disorders; Correction

AGENCY: Social Security Administration.

ACTION: Final rule; correction.

SUMMARY: This document corrects a misspelling in the regulatory language of our final rulemaking published in the Federal Register on Friday, October 10, 2014, titled Revised Medical Criteria for Evaluating Genitourinary Disorders.

DATES: Effective December 9, 2014.

FOR FURTHER INFORMATION CONTACT: Cheryl A. Williams, Office of Medical Policy, Social Security Administration, 6401 Security Boulevard, Baltimore, Maryland 21235-6401, (410) 965-1020. For information on eligibility or filing for benefits, call our national toll-free number, 1-800-772-1213, or TTY 1-800-325-0778, or visit our Internet site, Social Security Online, at http://www.socialsecurity.gov.

SUPPLEMENTARY INFORMATION: On October 10, 2014 we published a final rulemaking in the Federal Register at 79 FR 61221. The final rulemaking contained an incorrect spelling of exstrophic. We are correcting that misspelling.

Correction

In final rule FR Doc 2014-24114 published on October 10, 2014 at 79 FR 61221, in the regulatory language section, make the following correction:

Appendix 1 to Subpart P of Part 404—[Corrected]

1. On page 61225 in the 2nd column, in paragraph A of Listing 106.00 of Part B of Appendix 1 to Subpart P of Part 404, correct “exotrophic” to read “exstrophic”.

Paul Kryglik,
Director, Office of Regulations and Reports Clearance, Office of Legislative and Congressional Affairs, Social Security Administration.

[FR Doc. 2014-26745 Filed 11-12-14; 8:45 am]

BILLING CODE 4191-02-P